DEPARTMENT OF DEFENSE

Department of the Army

Preparation of an Environmental Impact Statement (EIS) for Force Transformation of the 172nd Infantry Brigade (Separate) and Mission Sustainment in Alaska

AGENCY: Department of the Army, DoD.

ACTION: Notice of intent.

SUMMARY: The Army proposes to implement a range of activities related to force transformation and mission sustainment in Alaska. The primary proposed activities are associated with conversion of the 172nd Infantry Brigade (Separate) into an Interim Brigade Combat Team (IBCT), a rapidly deployable, early entry, medium weight force with a decreased logistical footprint. Impacts to the human environment, to include surrounding communities, from restructuring the 172nd infantry Brigade (Separate) and from enhancing associated ranges, facilities, and infrastructure to meet transformation and mission sustainment objectives will be analyzed.

FOR FURTHER INFORMATION CONTACT: Mr. Kevin Gardner, Directorate of Public Works, 730 Quartermaster Road, Attention: APVR-RPW-EV (Gardner), Fort Richardson, AK 99505-6500; telephone: (907) 384-3003, fax: (907)384-3047; or Mr. Calvin Bagley, Center for Environmental Management of Military Lands (CEMML), Colorado State University, Fort Collins, CO 80523-1490; telephone: (970) 491-3324, fax: (970) 491-2713; or www.cemml.colostate.edu/alaskaeis.

SUPPLEMENTARY INFORMATION: The proposed action would affect changes to force structure and changes to ranges, facilities, and infrastructure designed to meet objectives of Army Transformation in Alaska. Proposed locations for changes include Fort Richardson, Fort Wainwright, and outlying training areas (e.g., Gerstle River and Black Rapids). Proposed areas of activity changes on Fort Wainwright would include cantonment areas, Tanana Flats Training Area, Yukon Training Area, and Donnelly Training Area (formerly Fort Greely). The proposed action would alter various activities on military and training lands in Alaska. The range of proposed activities include: (1) Fielding weapon systems and equipment (to include a net increase of over 300 Interim Armored Vehicles and probable additions of several unmanned aerial vehicles); (2) Construction, renovation, and demolition activities to include construction and upgrades to several small to large arms ranges, range complexes and urban training facilities; construction of IBCT vehicle motor pool facilities; construction of troop and equipment cargo and deployment facilities; enhancements to installation information infrastructure and corresponding facilities; upgrades to transportation infrastructure; construction/replacement of barracks and/or housing; and construction of additional administrative/control buildings and structures; (3) Land transactions (acquisition, asset management and disposal); (4) Deployment of forces and specific training for deployment; (5) Training to achieve and maintain readiness to perform assigned missions; (6) institutional matters to include the entire range of diverse day-to-day activities not otherwise accounted for in other activities.

Alternatives include: (1) No Action (existing unit structure and training, no specifically planned activities for transformation); (2) Transformation of the 172nd Infantry Brigade (Separate) to an IBCT using existing ranges facilities and infrastructure as they are now configured; (3) Transformation of the 172nd Infantry Brigade (Separate) to an IBCT and mission sustainment activities including new, additional, or modified ranges, facilities and infrastructure; (4) Total transformation of U.S. Army Alaska (USARAK) mission activities and capabilities, to include the near-term transformation of the 172nd Infantry Brigade (Separate) to an IBCT, in order to meet Objective Force requirements fulfilling the Army Vision of an Army that has the characteristics of being more responsive, deployable, agile, versatile, lethal, survivable, and sustainable; being strategically responsive; and being able to deploy rapidly and being dominant across the full spectrum of operations.

Other alternatives that may be raised during the scoping process will be considered.

Publication of this Notice of Intent does not foreclose consideration of any courses of actions or possible decisions addressed by the U.S. Department of the Army in its Draft Programmatic Environmental Impact Statement (PEIS) for Army Transformation, dated June 2001. No final decisions will be made regarding Transformation in Alaska prior to completion and signature of the Record of Decision for the PEIS for Army Transformation.

Federal, state, and local agencies, organizations, and the public are invited to participate in the scoping process for the completion of this EIS by participating in scoping meetings or submitting written comments. The scoping process will assist the Army in identifying potential impacts to the quality of the human environment. Scoping meetings will be held in Anchorage, Delta Junction, and Fairbanks, Alaska. Notification of the times and locations for the scoping meetings will be published in local newspapers. Written comments will be accepted within 30 days of the scoping meetings. Written comments may be forwarded to Mr. Kevin Gardner at the above address.

Dated: February 25, 2002.
Raymond J. Fatz,
Deputy Assistant Secretary of the Army (Environment, Safety and Occupational Health, OASA(I&E).

[FR Doc. 02-5085 Filed 3-1-02; 8:45 am]

BILLING CODE 3710-08-M